DEPARTMENT OF COMMERCE

International Trade Administration

[A-570-044]

1,1,1,2-Tetrafluoroethane (R-134a) From the People's Republic of China; Amended Preliminary Affirmative Determination of Sales at Less-Than-Fair Value

AGENCY: Enforcement and Compliance, International Trade Administration, Commerce.

SUMMARY: The Department of Commerce (“the Department”) is amending the preliminary determination of the less-than-fair-value (“LTFV”) investigation of 1,1,1,2-Tetrafluoroethane (“R-134a”) from the People's Republic of China (“PRC”) to correct significant ministerial errors with respect to our preliminary determination.

DATES: Effective December 1, 2016.

FOR FURTHER INFORMATION CONTACT: Keith Haynes or Paul Stolz, AD/CVD Operations, Office III, Enforcement and Compliance, International Trade Administration, U.S. Department of Commerce, 1401 Constitution Avenue NW., Washington, DC 20230; telephone: (202) 482-5139 or, (202) 482-4474, respectively.

SUPPLEMENTARY INFORMATION:

Background

On October 7, 2016, the Department published its Preliminary Determination.¹ On October 14, 2016, the Department disclosed to interested parties its calculations for the Preliminary Determination. On October 19, 2016, the Department received timely filed allegations of ministerial errors in the Preliminary Determination.² On October 20, and October 24, 2016, the Department received timely filed reply comments.³

¹ See 1,1,1,2-Tetrafluoroethane (R-134a) From the People's Republic of China: Preliminary Determination of Sales at Less-Than-Fair Value and Affirmative Determination of Critical Circumstances, in Part, and Postponement of Final Determination, 81 FR 69786 (October 7, 2016) (“Preliminary Determination”).

² See the ministerial error allegations from Petitioners and Sanmei Chemical Industry Co., Ltd. (“Sanmei”), dated October 19, 2016.

³ See the reply comments from Petitioners and Sanmei, dated October 20, 2016, and October 24, 2016, respectively. However, pursuant to 19 CFR 351.224(c)(3), the Department has not considered the rebuttal comments in its analysis.

Period of Investigation

The period of investigation is July 1, 2015, through December 31, 2015.

Scope of the Investigation

The product subject to this investigation is 1,1,1,2-Tetrafluoroethane, R-134a, or its chemical equivalent, regardless of form, type, or purity level. The chemical formula for 1,1,1,2-tetrafluoroethane is CF3-CH2F, and the Chemical Abstracts Service (“CAS”) registry number is CAS 811-97-2.⁴

⁴ 1,1,1,2-Tetrafluoroethane is sold under a number of trade names including Klea 134a and Zephex 134a (Mexichem Fluor); Genetron 134a (Honeywell); Freon™ 134a, Suva 134a, Dymel 134a, and Dymel P134a (Chemours); Solkane 134a (Solvay); and Forane 134a (Arkema). Generically, 1,1,1,2-Tetrafluoroethane has been sold as Fluorocarbon 134a, R-134a, HFC-134a, HF A-134a, Refrigerant 134a, and UN3159.

Merchandise covered by the scope of this investigation is currently classified in the Harmonized Tariff Schedule of the United States (“HTSUS”) at subheading 2903.39.2020. Although the HTSUS subheading and CAS registry number are provided for convenience and customs purposes, the written description of the scope is dispositive.

Analysis of Significant Ministerial Error Allegation

The Department will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ⁵ A significant ministerial error is defined as an error, the correction of which, singly or in combination with other errors, would result in: (1) A change of at least five absolute percentage points in, but not less than 25 percent of, the antidumping duty rate calculated in the original (erroneous) preliminary determination; or (2) a difference between an antidumping duty rate of zero (or de minimis) and an antidumping duty rate of greater than de minimis or vice versa.⁶

⁵ See Section 735(e) of the Tariff Act of 1930, as amended (the “Act”).

⁶ See 19 CFR 351.224(g).

Pursuant to 19 CFR 351.224(e) and (g)(1), the Department is amending the Preliminary Determination to reflect the correction of six ministerial errors it made in the calculation of the estimated weighted-average dumping margin for Sanmei, a mandatory respondent ⁷ These errors are significant ministerial errors within the meaning of 19 CFR 351.224(g) because Sanmei's margin increases from 137.23 percent to 232.30 percent as a result of correcting these ministerial errors, exceeding the significant threshold with a change of at least five absolute percentage points and more than 25 percent of the estimated weighted-average dumping margin.

⁷ See Memorandum to Christian Marsh, Deputy Assistant Secretary for Antidumping and Countervailing Duty Operations, from Erin Begnal, Director, Office III, “Antidumping Duty Investigation of 1,1,1,2-Tetrafluorethane (R134a) from the People's Republic of China: Allegation of Ministerial Errors in the Preliminary Determination,” dated concurrently with this notice for the analysis performed (“Ministerial Error Memorandum”). The Department is also correcting an additional error made by Sanmei, as the error is related to one of the ministerial errors that the Department made and has corrected.

Because Sanmei is the only mandatory respondent eligible for a separate rate, Sanmei is the only respondent for which we individually calculated an estimated weighted-average dumping margin. For this reason, we assigned Sanmei's calculated rate to all non-examined separate rate respondents. With this amended preliminary determination, the estimated weighted-average dumping margin for each non-examined separate rate respondent is also amended to 232.30 percent.

In the Preliminary Determination, in order to determine the probative value of the dumping margin alleged in the petition for assigning an adverse facts available (“AFA”) rate, we examined the information on the record. When we compared the highest petition dumping margin of 220.90 percent to the transaction-specific dumping margins calculated for Sanmei, we found that the highest petition dumping margin was higher than each of the transaction-specific dumping margins calculated for Sanmei. Therefore, we were unable to corroborate the highest dumping margin contained in the petition for use as AFA, which was applied to the PRC-wide entity.⁸ Because Sanmei's amended preliminary estimated weighted-average dumping margin is now higher than the highest dumping margin alleged in the petition, the AFA rate applied to the PRC-wide entity is also 232.30 percent.

⁸ See Preliminary Determination and accompanying Preliminary Decision Memorandum at 20-21.

Because we are relying on information obtained in the course of this investigation on which to base this rate, not on secondary information, it is not necessary to corroborate this calculated rate as AFA.⁹

⁹ See, e.g., 1,1,1,2-Tetrafluroethane From the People's Republic of China: Final Determination of Sales at Less Than Fair Value, 79 FR 62597 (October 20, 2014), and accompanying Issues and Decision Memorandum at 3. See also section 776(c) of the Act and 19 CFR 351.308(c) and (d).

Amended Cash Deposits and Suspension of Liquidation

The collection of cash deposits and suspension of liquidation will be revised accordingly, in accordance with section 733(d) and (g)(1) of the Act and 19 CFR 351.224. Because it is an increase from the Preliminary Determination, the amended cash deposit rate will be effective on the date of publication of this notice in the Federal Register. This suspension of liquidation will remain in effect until further notice.

Amended Preliminary Determination

The Department preliminarily determines that the following estimated weighted-average antidumping duty margins exist:

Exporter | Producer | Weighted- average margin (percent)
Zhejiang Sanmei Chemical Industry Co., Ltd | Zhejiang Sanmei Chemical Industry Co., Ltd. and Jiangsu Sanmei Chemicals Co., Ltd | 232.30
Jiangsu Bluestar Green Technology Co., Ltd | Jiangsu Bluestar Green Technology Co., Ltd | 232.30
T.T. International Co., Ltd | Electrochemical Factory of Zhejiang Juhua Co., Ltd | 232.30
T.T. International Co., Ltd | Sinochem Environmental Protection Chemicals (Taicang) Co., Ltd | 232.30
T.T. International Co., Ltd | Zhejiang Quzhou Lianzhou Refrigerants Co., Ltd | 232.30
T.T. International Co., Ltd | Zhejiang Sanmei Chemical Ind. Co., Ltd | 232.30
T.T. International Co., Ltd | Zhejiang Zhonglan Refrigeration Technology Co., Ltd | 232.30
Weitron International Refrigeration Equipment Co., Ltd | Sinochem Environmental Protection Chemicals (Taicang) Co., Ltd | 232.30
Weitron International Refrigeration Equipment Co., Ltd | Weitron International Refrigeration Equipment Co., Ltd | 232.30
Weitron International Refrigeration Equipment Co., Ltd | Zhejiang Organic Fluor-Chemistry Plant, Zhejiang Juhua Co., Ltd | 232.30
Weitron International Refrigeration Equipment Co., Ltd | Zhejiang Quhua Fluor-Chemistry Co., Ltd | 232.30
Weitron International Refrigeration Equipment Co., Ltd | Zhejiang Quhua Juxin Fluorochemical Industry Co., Ltd | 232.30
Weitron International Refrigeration Equipment Co., Ltd | Zhejiang Sanmei Chemical Industry Co., Ltd | 232.30
PRC-Wide Entity |  | 232.30

Disclosure

We intend to disclose the calculations performed to parties in this proceeding within five days after publication of the notice of amended preliminary determination in the Federal Register in accordance with 19 CFR 351.224(b).

International Trade Commission Notification

In accordance with section 733(f) of the Act, we will notify the International Trade Commission of our determination.

This determination is issued and published pursuant to sections 733(f) and 777(i)(1) of the Act and 19 CFR 351.224(e).

Dated: November 25, 2016.
Ronald K. Lorentzen,
Acting Assistant Secretary for Enforcement and Compliance.

[FR Doc. 2016-28823 Filed 11-30-16; 8:45 am]

BILLING CODE 3510-DS-P